DEPARTMENT OF ENERGY

Federal Energy Regulatory Commission

[Project No. 12628-002]

The City of Nashua, IA; Notice of Application Ready for Environmental Analysis and Soliciting Comments, Recommendations, Terms and Conditions, and Prescriptions

October 5, 2009.

Take notice that the following hydroelectric application has been filed with the Commission and is available for public inspection.

a. Type of Application: Original minor license.

b. Project No.: 12628-002.

c. Date Filed: January 13, 2009.

d. Applicant: The City of Nashua, Iowa.

e. Name of Project: Cedar Lake Dam Hydroelectric Project.

f. Location: The project would be located at the existing Cedar Lake Dam, on the Cedar River, in Chickasaw County, Iowa. The project would not occupy any Federal land.

g. Filed Pursuant to: Federal Power Act 16 U.S.C. 791 (a)-825(r).

h. Applicant Contact: Ms. Rebecca Neal, The City of Nashua, 402 Main Street, Nashua, IA 50658; (641) 435-4156.

i. FERC Contact: Michael Watts, michael.watts@ferc.gov, (202) 502-6123.

j. Deadline for filing comments, recommendations, terms and conditions, and prescriptions is 60 days from the issuance date of this notice; reply comments are due 105 days from the issuance date of this notice.

All documents (original and eight copies) should be filed with: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

k. This application has been accepted, and is ready for environmental analysis at this time.

l. The proposed project would consist of: (1) An existing 15.5-foot-high concrete dam with a 258-foot-long spillway equipped with four 6-foot-high taintor gates, a 6-foot-high control gate, and three 4-foot-high flashboards; (2) an existing 405-acre reservoir with a normal full pond elevation of 960.1 feet above mean sea level; (3) an existing 50-foot-wide concrete intake structure connected to; (4) an existing powerhouse to contain four new turbine generating units with a total installed capacity of 800 kilowatts; (5) a new 75-foot-long, 13.8-kilovolt overhead transmission line; and (6) appurtenant facilities. The proposed project would generate an estimated average annual generation of 3,285 megawatt hours.

The existing Cedar Lake dam and integral powerhouse are owned by the City of Nashua, Iowa (Nashua) and were constructed in 1917 and used for power generation until 1965. Nashua currently operates the dam to maintain the reservoir's water surface elevation. Nashua is proposing to rehabilitate the hydro project by installing the new turbine generators and transmission equipment. As proposed, the project will operate in run-of-river mode.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) Bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

Procedural Schedule: The application will be processed according to the following Revised Hydro Licensing Schedule. Other revisions to the schedule will be made as appropriate.

Milestone | Target date
Deadline for Filing of Agency Recommendations | December 4, 2009.
Notice of the availability of the EA | May 2010.

Kimberly D. Bose,
Secretary.

[FR Doc. E9-24496 Filed 10-9-09; 8:45 am]

BILLING CODE 6717-01-P